DEPARTMENT OF THE INTERIOR

Fish and Wildlife Service

[FWS-R1-NWRS-2009-N0016;1265-0000-10137-S3]

McNary and Umatilla National Wildlife Refuges, Benton, Walla Walla, and Franklin Counties, WA, and Morrow and Umatilla Counties, OR

AGENCY: Fish and Wildlife Service, Interior.

ACTION: Notice of availability of the final comprehensive conservation plan, environmental assessment, and finding of no significant impact.

SUMMARY: We, the U.S. Fish and Wildlife Service (Service), have completed a comprehensive conservation plan, environmental assessment (CCP/EA), and finding of no significant impact (FONSI) for the McNary and Umatilla National Wildlife Refuges (Refuges), which are part of the Mid-Columbia River National Wildlife Refuge Complex (Complex). The CCP/EA was developed to provide a foundation for the management and use of the Refuges. We are furnishing this notice to advise other agencies and the public of the availability of the CCP/EA and FONSI, and the decision to implement Alternative 2 as described in the CCP/EA. The Service's Regional Director for the Pacific Region selected Alternative 2 for managing the Refuges for the next 15 years. The Refuges are located along the Columbia River in the states of Oregon and Washington.

DATES: The CCP/EA and FONSI are completed, implementation may begin immediately.

ADDRESSES: The CCP/EA and FONSI are available for viewing at Mid-Columbia River National Wildlife Refuge Complex, 64 Maple Street, Burbank, WA 99323, and copies on compact disk may be obtained by visiting or writing to the Refuge Complex. These documents are also available for viewing and downloading on the Internet at http://pacific.fws.gov/planning.

FOR FURTHER INFORMATION CONTACT: Greg Hughes, Project Leader, Mid-Columbia River National Wildlife Refuge Complex, phone (509) 546-8300.

SUPPLEMENTARY INFORMATION: With this notice, we complete the CCP process for the McNary and Umatilla National Wildlife Refuges that began in 2004 (69 FR 29568, May 24, 2004). The McNary and Umatilla Refuges are part of the National Wildlife Refuge System (NWRS) administered by the Service. The National Wildlife Refuge System Administration Act of 1966 (Refuge Administration Act), as amended, requires all units of the NWRS to be managed in accordance with an approved CCP. A CCP provides management direction, and identifies refuge goals, objectives, and strategies for achieving refuge purposes. We prepared the CCP/EA and FONSI for the McNary and Umatilla Refuges pursuant to the National Environmental Policy Act (NEPA) of 1969 (42 U.S.C. 4321-4370d), as amended, and its implementing regulations, the Refuge Administration Act, and Service policies.

McNary Refuge is located in Walla Walla and Franklin Counties, Washington, and Umatilla County, Oregon. Umatilla Refuge is located in Benton County, Washington, and Morrow County, Oregon. Planning for these Refuges was conducted concurrently, because many of the same physical characteristics, management issues, and conservation opportunities occur on, or are relevant to, the management of each of the Refuges.

During the CCP planning process for the Refuges many elements were considered, including management of the Refuges' shrub-steppe, riparian, wetland, and cliff-talus habitats for the long-term conservation of native plants and animals and migratory birds. We identified appropriate actions in the CCP for protecting and sustaining the cultural and biological features of the river islands, the Refuges' wintering waterfowl populations and habitats, the growing migratory shorebird populations that use the Refuges, and threatened, endangered, or rare species. Guidance for maintaining and improving high quality public use programs for hunting, fishing, wildlife observation, photography, environmental education, and interpretation is also provided in the CCP/EA.

Public Comments and Changes to the CCP

We identified and evaluated four alternatives in the Draft CCP/EA for managing the Refuges. The Draft CCP/EA was available for a 30-day public review and comment period, which occurred January 23 through February 23, 2007 (January 29, 2007, 72 FR 4019). Notification was sent to 700 individuals and organizations on our mailing list for this CCP, and public notice was provided in local media and on the Complex Web site.

The Service received 105 comment letters, forms, or emails on the Draft CCP, which were incorporated into, or otherwise responded to, in the final CCP. To address public comments, minor changes and clarifications were made to the final CCP/EA where we considered it appropriate.

CCP Implementation

The Regional Director, U.S. Fish and Wildlife Service, Region 1, signed the FONSI and approved the CCP/EA on May 7, 2007. By implementing the CCP, the Service will manage Refuge resources for migratory birds and will enhance populations of targeted special status species and their habitats. Habitat conditions for migratory waterfowl, shorebirds, threatened and endangered species, and other native wildlife will be improved. The Refuges will emphasize control and reduction of weeds and improvement of riparian, shrub-steppe, island, and cliff habitats. Wildlife-dependent public use will be emphasized with opportunities for hunting, fishing, wildlife observation, photography, interpretation, and environmental education either maintained or improved from present conditions. A Washington State pheasant augmentation/release program will be phased out in two years and camping will be discontinued at Madame Dorion Park. Disturbance to island resources will be reduced through closure of all beach use on Refuge islands.

Dated: January 13, 2009.
David J. Wesley,
Regional Director, Region 1, Portland, Oregon.

[FR Doc. E9-9325 Filed 4-29-09; 8:45 am]

BILLING CODE 4310-55-P